DEPARTMENT OF HOMELAND SECURITY

Federal Emergency Management Agency

44 CFR Part 65

[Docket ID FEMA-2010-0003; Internal Agency Docket No. FEMA-B-1088]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street SW., Washington, DC 20472, (202) 646-2820, or (e-mail) kevin.long@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Cochise | Unincorporated areas of Cochise County (09-09-2171P) | October 12, 2009; October 19, 2009; Sierra Vista Herald | The Honorable Richard Searle, Vice Chairman, Cochise County Board of Supervisors, 1415 West Melody Lane, Building G, Bisbee, AZ 85603 | February 16, 2010 | 040012
Maricopa | City of El Mirage (09-09-1385P) | October 29, 2009; November 5, 2009; Arizona Business Gazette | The Honorable Fred Waterman, Mayor, City of El Mirage, P.O. Box 26, El Mirage, AZ 85335 | October 22, 2009 | 040041
Maricopa | Unincorporated areas of Maricopa County (09-09-1385P) | October 29, 2009; November 5, 2009; Arizona Business Gazette | The Honorable Andrew W. Kunasek, Chairman, Maricopa County Board of Supervisors, 301 West Jefferson Street, 10th Floor, Phoenix, AZ 85003 | October 22, 2009 | 040037
Maricopa | City of Surprise (09-09-1385P) | October 29, 2009; November 5, 2009; Arizona Business Gazette | The Honorable Lyn Truitt, Mayor, City of Surprise, 12425 West Bell Road, Surprise, AZ 85374 | October 22, 2009 | 040053
Yavapai | Town of Prescott Valley (09-09-1988P) | November 2, 2009; November 9, 2009; Prescott Daily Courier | The Honorable Harvey Skoog, Town of Prescott Valley, 7501 East Civic Circle, Prescott Valley, AZ 86314 | March 9, 2010 | 040121
California:
Alameda | City of Fremont (09-09-0112P) | October 12, 2009; October 19, 2009; The Argus | The Honorable Robert Wasserman, Mayor, City of Freemont, 3300 Capitol Avenue, Fremont, CA 94538 | February 16, 2010 | 065028
San Diego | City of Chula Vista (09-09-0757P) | October 16, 2009; October 23, 2009; The Star News | The Honorable Cheryl Cox, Mayor, City of Chula Vista, 276 4th Avenue, Chula Vista, CA 91910 | November 2, 2009 | 065021
San Diego | City of San Marcos (08-09-1888P) | October 16, 2009; October 23, 2009; North County Times | The Honorable James Desmond, Mayor, City of San Marcos, One Civic Drive, San Marcos, CA 92069 | February 20, 2010 | 060296
Colorado:
Larimer | City of Fort Collins (08-08-0893P) | October 16, 2009; October 23, 2009; Fort Collins Coloradoan | The Honorable Darin Atteberry, Manager, City of Fort Collins, 300 LaPorte Avenue, Fort Collins, CO 80521 | February 22, 2010 | 080102
Larimer | Unincorporated areas of Larimer County (08-08-0893P) | October 16, 2009; October 23, 2009; Fort Collins Coloradoan | The Honorable Frank Lancaster, Manager, Larimer County, P.O. Box 1190, Fort Collins, CO 80522 | February 22, 2010 | 080101
Mesa | Unincorporated areas of Mesa County (09-08-0604P) | October 16, 2009; October 23, 2009; Daily Sentinel | Mr. Steven Acquafresca, Chairman, Mesa County Board of Commissioners, P.O. Box 20000, Grand Junction, CO 81502 | March 2, 2010 | 080115
Connecticut:
Middlesex | Town of Cromwell (09-01-0957P) | July 13, 2009; July 20, 2009; Middletown Press | The Honorable John M. Flanders, First Selectman, Town of Cromwell, 41 West Street, Cromwell, CT 06416 | June 30, 2009 | 090123
New Haven | Town of Cheshire (09-01-1101P) | October 15, 2009; October 22, 2009; Cheshire Herald | The Honorable Matt Hall, Chairman, Cheshire Town Council, 84 South Main Street, Cheshire, CT 06410 | February 19, 2010 | 090074
Florida: Duval | City of Jacksonville (09-04-2297P) | October 13, 2009; October 20, 2009; Jacksonville Daily Record | The Honorable John Peyton, Mayor, City of Jacksonville, 117 West Duval Street, 4th Floor, Jacksonville, FL 32202 | November 9, 2009 | 20077
Georgia: Newton | City of Covington (09-04-4700P) | October 9, 2009; October 16, 2009; The Covington News | Ms. Kim Carter, Mayor, City of Covington, 2194 Emory Street, Covington, GA 30014 | February 15, 2010 | 130144
Hawaii: Hawaii | Unincorporated areas of Hawaii County (09-09-1608P) | October 12, 2009; October 19, 2009; Hawaii Tribune-Herald | The Honorable William P. Kenoi, Mayor, Hawaii County, 25 Aupuni Street, Hilo, HI 96720 | February 16, 2010 | 155166
Illinois:
Will | City of Joliet (09-05-0265P) | October 30, 2009; November 6, 2009; Herald News | The Honorable Arthur Schultz, Mayor, City of Joliet, 150 West Jefferson Street, Joliet, IL 60432 | October 21, 2009 | 170702
Will | Unincorporated areas of Will County (09-05-0265P) | October 30, 2009; November 6, 2009; Herald News | The Honorable Lawrence M. Walsh, Will County Executive, 302 North Chicago Street, Joliet, IL 60432 | October 21, 2009 | 170695
Kentucky: Fayette | Lexington-Fayette Urban County Government (09-04-1695P) | October 7, 2009; October 14, 2009; Lexington Herald-Leader | The Honorable Jim Newberry, Mayor, Lexington-Fayette Urban County Government, 200 East Main Street, 12th Floor, Lexington, KY 40507 | September 28, 2009 | 210067
North Carolina: Cumberland | Unincorporated Areas of, Cumberland County (09-04-3582P) | October 7, 2009; October 14, 2009; Fayetteville Observer | Mr. James E. Martin, County Manager, Cumberland County, 117 Dick Street, Room 512, Fayetteville, NC 28301 | February 11, 2010 | 370076
Texas:
Johnson | City of Burleson (09-06-0485P) | October 7, 2009; October 14, 2009; Burleson Star | The Honorable Kenneth Shetter, Mayor, City of Burleson, 141 West Renfro Street, Burleson, TX 76028 | February 11, 2010 | 485459
Travis | City of Austin (09-06-0763P) | October 27, 2009; November 3, 2009; Austin American Statesman | The Honorable Lee Leffingwell, Mayor, City of Austin, P.O. Box 1088, Austin, TX 78767 | March 3, 2010 | 480624
Travis | City of Austin (09-06-0764P) | November 4, 2009; November 11, 2009; Austin American Statesman | The Honorable Lee Leffingwell, Mayor, City of Austin, P.O. Box 1088, Austin, TX 78767 | March 11, 2010 | 480624
Virginia: Prince William | Unincorporated areas of Prince William County (09-03-1773P) | October 28, 2009; November 4, 2009; News & Messenger | The Honorable Corey Stewart, Chairman, Prince William County Board of Supervisors, One County Complex Court, Prince William, VA 22192 | March 4, 2010 | 510119
Washington:
King | City of Redmond (08-10-0762P) | October 30, 2009; November 6, 2009; Redmond Reporter | The Honorable John Marchione, Mayor, City of Redmond, P.O. Box 97010, Redmond, WA 98073 | March 8, 2010 | 530087
Spokane | City of Cheney (09-10-0216P) | October 16, 2009; October 23, 2009; Spokesman Review | The Honorable Allan Gainer, Mayor, City of Cheney, 609 2nd Street, Cheney, WA 99004 | April 7, 2010 | 530175
Spokane | Unincorporated areas of Spokane County (09-10-0216P) | October 16, 2009; October 23, 2009; Spokesman Review | The Honorable Todd Mielke, Chairman, Spokane County Board of Commissioners, 1116 West Broadway Avenue, Spokane, WA 99260 | April 7, 2010 | 530174

(Catalog of Federal Domestic Assistance No. 97.022, “Flood Insurance.”)

Dated: March 18, 2010.
Edward L. Connor,
Acting Federal Insurance and Mitigation Administrator, Mitigation, Department of Homeland Security, Federal Emergency Management Agency.

[FR Doc. 2010-8078 Filed 4-8-10; 8:45 am]

BILLING CODE 9110-12-P